DEPARTMENT OF HEALTH AND HUMAN SERVICES

Administration for Children and Families

[Assistance Listing Number: 93.576]

Announcement of the Intent To Award an Unsolicited Cooperative Agreement to Global Refuge in Baltimore, Maryland

AGENCY: Refugee Program Bureau, Office of Refugee Resettlement (ORR), Administration for Children and Families (ACF), Department of Health and Human Services.

ACTION: Notice of Issuance of an Unsolicited Cooperative Agreement.

SUMMARY: The ACF, ORR, Refugee Program Bureau announces the intent to award a cooperative agreement in the amount of up to $2,027,470 to Global Refuge in Baltimore, Maryland, to sustain the Immigrant and Refugee Information System (IRIS) platform to support ORR's Program of Initial Settlement. The funding will provide essential infrastructure for case placement, compliance reporting, and system integration across the program of initial resettlement.

DATES: The proposed period of performance is January 1, 2026, to September 29, 2026.

FOR FURTHER INFORMATION CONTACT: Miro Marinovich, Office of Refugee Resettlement, Administration for Children and Families, 330 C Street SW, Washington, DC 20201. Telephone: (202) 729-3638; Email: miro.marinovich@acf.hhs.gov.

SUPPLEMENTARY INFORMATION: Global Refuge submitted an unsolicited proposal to ORR requesting support to maintain the IRIS platform through Fiscal Year 2026. IRIS is a national case management and reporting system used by seven resettlement agencies and hundreds of local offices. The system assists refugees in resettling in the United States by providing essential infrastructure for case placement; assurance tracking; compliance reporting; and interoperability with the START system used by the Department of State Bureau of Populations, Refugees, and Migration (PRM), ORR's Refugee Arrivals Data System database, and the International Organization for Migration's MiMosa system.

PRM funding for IRIS concluded in 2025. Global Refuge's qualifications are unique because it designed, built, and currently maintains IRIS. Without successor funding, system operations would be at risk, creating potential nationwide disruptions to refugee case processing, data continuity, and required federal reporting. Global Refuge states that maintaining IRIS in its current form is necessary to ensure uninterrupted resettlement operations during this transition period.

The proposal requests up to $2,027,470 in core funding to support system hosting, maintenance, essential personnel, security compliance, and continued interoperability with federal partners.

IRIS currently supports federal partners and consequently the refugees they serve by providing standardized data exports, assurance tracking, Reception and Placement report generation, and audit-ready compliance reporting. National and local resettlement agencies rely on the platform for case management, service tracking, and secure handling of personally identifiable information. Global Refuge notes that its capacity to sustain these activities is not possible without continued federal support.

ORR reviewed the proposal and considered the mission-critical role IRIS plays in supporting nationwide resettlement operations, the essential reporting and data integration functions it provides, and the operational risks associated with disruption. Continued support would allow ORR to maintain stable processing and reporting functions while evaluating longer-term data management needs for refugee programs.

Statutory Authority: The statutory authority for funding this application is section 412(c)(1) of the Immigration and Nationality Act (INA), 8 U.S.C. 1522(c)(1). The cooperative agreement benefits refugees by assisting resettlement agencies and their affiliates in complying with sections 412(b)(1), (7) and (8) of the INA, 8 U.S.C. 1522(b)(1), (7) and (8).

Elizabeth Leo,
Policy Branch Chief, Office of Grants Policy, Office of Administration.

[FR Doc. 2026-02180 Filed 2-2-26; 8:45 am]

BILLING CODE 4184-89-P